DEPARTMENT OF HEALTH AND HUMAN SERVICES

Substance Abuse and Mental Health Services Administration

Notice of Meeting

Pursuant to Public Law 92-463, notice is hereby given that the Substance Abuse and Mental Health Services Administration (SAMHSA) National Advisory Council will meet on September 8 and 9, 2008.

The meeting is open to the public and will include a report from the SAMHSA Acting Administrator and updates on legislative developments and SAMHSA's National Registry of Evidence-Based Practices. The meeting will also include discussions focusing on Creating and Sustaining Recovery-Oriented Systems of Care and Positioning SAMHSA for an Era of Health Care Reform.

Attendance by the public will be limited to space available. Public comments are welcome. Please communicate with the SAMHSA National Advisory Council Designated Federal Official, Ms. Toian Vaughn (see contact information below), to make arrangements to attend, to comment or to request special accommodations for persons with disabilities.

Substantive program information, a summary of the meeting, and a roster of Council members may be obtained as soon as possible after the meeting, either by accessing the SAMHSA Committee Web site, http://www.nac.samhsa.gov, or by contacting Ms. Vaughn. The transcript for the meeting will also be available on the SAMHSA Committee Web site within three weeks after the meeting.

Committee Name: SAMHSA National Advisory Council.

Date/Time/Type: Monday, September 8, 2008, from 9 a.m. to 5 p.m.: Open. Tuesday, September 9, 2008, from 8:30 a.m. to 10:30 a.m.: Open.

Place: 1 Choke Cherry Road, Sugarloaf and Seneca Conference Rooms, Rockville, Maryland 20857.

Contact: Toian Vaughn, M.S.W., Designated Federal Official, SAMHSA National Advisory Council, and SAMHSA Committee Management Officer, 1 Choke Cherry Road, Room 8-1089, Rockville, Maryland 20857, Telephone: (240) 276-2307; FAX: (240) 276-2220; and e-mail: toian.vaughn@samhsa.hhs.gov.

Toian Vaughn,
Committee Management Officer, Substance Abuse and Mental Health Services Administration.

[FR Doc. E8-18795 Filed 8-13-08; 8:45 am]

BILLING CODE 4162-20-P